DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Healthy Schools, Healthy Communities User/Visit Surveys—NEW

The Bureau of Primary Health Care of HRSA is planning to conduct User/Visit Surveys of the Healthy Schools, Healthy Communities (HSHC) Program. The purpose of these surveys is to obtain nationally representative data about the patients of HSHC health centers and the services provided to them. The study consists of two parts. One is the User Survey, which involves interviewing HSHC patients or their parents about the patients' health and health care. The second is the Visit Survey, in which patient visit data will be collected from medical records in order to find out what health services are being used by patients. The data collected will provide policymakers with a better understanding of the services students are receiving at HSHC health centers and how well these centers are meeting the needs of students. The surveys will provide new information about health care received in HSHC settings.

Data from the surveys will provide quantitative information on the population served by the HSHC program, specifically: (a) Sociodemographic characteristics, (b) health care access and utilization, (c) health status and morbidity, (d) health care experiences and risk behaviors, (e) content of medical encounters, (f) preventive care and (g) patient satisfaction. These surveys will provide data useful to the program and will enable HRSA to provide data required by Congress under the Government Performance and Results Act of 1993.

The estimated burden on respondents is as follows:

Respondents | Number of respondents | Hours per respondent | Total Hour burden
Adolescent Users | 500 | .5 | 250
Guardians (Proxies) of Users | 500 | .5 | 250
Medical Records | 1000 | .25 | 250
Total | 1000 |  | 750

Written comments and recommendations concerning the proposed information collection should be sent within 30 days of this notice to: John Morrall, Human Resources and Housing Branch, Office of Management and Budget, New Executive Office Building, Room 10235, Washington, DC 20503.

Dated: January 18, 2002.
Jane M. Harrison,
Director, Division of Policy Review and Coordination.

[FR Doc. 02-1851 Filed 1-24-02; 8:45 am]

BILLING CODE 4165-15-P